DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 81 FR 10874-10875 dated March 2, 2016).

This notice reflects organizational changes in the Health Resources and Services Administration (HRSA), Office of Operations (RB), Office of Information Technology (RB5). Specifically, this notice: (1) Updates the functional statement for the Office of the Director, Office of Information Technology (RB5); and (2) updates the functional statement for the Division of Enterprise Solutions and Applications Management (RB56) within the Office of Information Technology (RB5).

Chapter RB5—Office of Information Technology

Section RQ-20, Function

Delete the functional statement for the Office of the Director (RB5) and for the Division of Enterprise Solutions and Applications Management (RB56) and replace in their entirety.

This notice reflects organizational changes in the Health Resources and Services Administration (HRSA), Office of Operations (RB), Office of Information Technology (RB5). Specifically, this notice: (1) Updates the functional statement for the Office of the Director (RB5); and (2) updates the functional statement for the Division of Enterprise Solutions and Applications Management (RB56) within the Office of Information Technology (RB5).

Office of the Director and Chief Information Officer (RB5)

The Office of Information Technology is responsible for the organization, management, and administrative functions necessary to carry out responsibilities including: (1) Architects, deploys, and supports IT infrastructure; (2) provides IT end user support; (3) develops enterprise and custom applications; (4) provides investment control, budget formulation and execution, policy development, strategic and tactical planning, and performance monitoring; (5) provides leadership in the development, review, and implementation of policies and procedures to promote improved information technology (IT) management capabilities and best practices throughout HRSA; (6) coordinates IT workforce issues and works closely with the Office of Administrative Services on IT recruitment and training issues; and (7) oversees HRSA security operations and management program.

The Office of the Director is also responsible for the IT business function including: (1) Provides oversight and management of IT budget formulation and execution; (2) serves as the focal point to OIT's contracts; (3) provides centralized procurement services for the Office of Information Technology; and (4) serves as the coordinator for OIT's Inter-agency and Service Level Agreements.

Chief Information Security Officer

The Chief Information Security Officer, reporting to the Chief Information Officer, provides leadership for and collaborates with Agency staff to oversee the implementation of security and privacy policy in the management of their IT systems, and plans all activities associated with the Federal Information Security Management Act or other Agency security and privacy initiatives including: (1) Implements, coordinates, and administers security and privacy programs to protect the information resources of HRSA in compliance with legislation, Executive Orders, directives of the Office of Management and Budget, or other mandated requirements; (2) executes the Agency's Risk Management Program, and evaluates and assists with the implementation of safeguards to protect major information systems and IT infrastructure; and (3) manages the development, implementation, and evaluation of HRSA's information technology security and privacy training programs to meet requirements mandated by the Office of Management and Budget.

Division of Enterprise Solutions and Applications Management (RB56)

The Division of Enterprise Solutions and Applications Management (DESAM) develops the HRSA grants program Electronic Handbook System (EHB) and other customized software applications to meet customer and mission needs. DESAM evaluates business processes, develops and integrates systems, and functional and data architectures based on requirements. DESAM develops, maintains and supports software applications including Commercial-Off-The-Shelf (COTS) applications, and collaboration tools. DESAM manages the systems development lifecycle by facilitating business process engineering efforts, systems requirements definition, and provides oversight for application change management control. DESAM provides enterprise application user training, and application customer support, and is responsible for end-to-end application building, deployment, and maintenance and data security assurance.

Delegations of Authority

All delegations of authority and re-delegations of authority made to HRSA officials that were in effect immediately prior to this reorganization, and that are consistent with this reorganization, shall continue in effect pending further re-delegation.

This reorganization is effective upon date of signature.

Dated: March 21, 2016.
James Macrae,
Acting Administrator.

[FR Doc. 2016-06971 Filed 3-25-16; 8:45 am]

BILLING CODE 4165-15-P